DEPARTMENT OF COMMERCE

National Institute of Standards and Technology

National Artificial Intelligence Advisory Committee

AGENCY: National Institute of Standards and Technology, Department of Commerce.

ACTION: Notice of open briefing session.

SUMMARY: The National Institute of Standards and Technology (NIST) announces that the National Artificial Intelligence Advisory Committee (NAIAC or Committee) will hold a virtual briefing session. This session will be held on Friday, September 29, 2023 from 12:00 p.m. to 1:00 p.m. Eastern Time. The purpose of this session is for invited experts to brief the Committee on topics of interest related to the Committee's year two efforts. Additional information, including the final agenda and link to register, will be available online at: ai.gov/naiac/.

DATES: The session will be held on Friday, September 29, 2023 from 12:00 p.m. to 1:00 p.m. Eastern Time. Additional information will be available on ai.gov/naiac/. Members of the public interested in viewing the session are encouraged to visit ai.gov/naiac/ for session details and to register to watch virtually. Registration is required to view the virtual session and members of the public should register in accordance with the information provided in the SUPPLEMENTARY INFORMATION section of this notice.

ADDRESSES: This session will be held virtually. For instructions on how to attend the session, please see the SUPPLEMENTARY INFORMATION section of this notice.

FOR FURTHER INFORMATION CONTACT: Alicia Chambers, Designated Federal Officer, National Institute of Standards and Technology, 100 Bureau Drive, MS 1000, Gaithersburg, MD 20899, alicia.chambers@nist.gov or 240-374-0089. Please direct any inquiries to naiac@nist.gov.

SUPPLEMENTARY INFORMATION: In accordance with the Federal Advisory Committee Act, 5 U.S.C. 1001 et seq., notice is hereby given that the NAIAC will hold a briefing session on Friday, September 29, 2023 from 12:00 p.m. to 1:00 p.m. Eastern Time. The session will be open to the public and will be held virtually. Interested members of the public will be able to attend the session from remote locations. The purpose of this session is for invited experts to brief the Committee on topics of interest related to the Committee's year two efforts. Additional information, including the final agenda and link to register, will be available online at: ai.gov/naiac/.

The NAIAC is authorized by section 5104 of the National Artificial Intelligence Initiative Act of 2020 (Pub. L. 116-283), in accordance with the provisions of the Federal Advisory Committee Act, 5 U.S.C. 1001 et seq. The Committee advises the President and the National Artificial Intelligence Initiative Office on matters related to the National Artificial Intelligence Initiative. Additional information on the NAIAC is available at ai.gov/naiac/.

Comments: Oral comments from the public will not be permitted during this virtual session. However, individuals and representatives of organizations may submit written comments and suggestions to the Committee at any time. Please note that all submitted comments will be treated as public documents and will be made available for public inspection. All comments must be submitted via email with the subject line “YOUR NAME, YOUR ORGANIZATION NAME (if applicable), NAIAC Comments” to naiac@nist.gov.

Virtual Admittance Instructions: The session will be broadcast live via virtual teleconference. Registration is required to view the virtual session. To register, please visit ai.gov/naiac/. Members of the public that would like to view the virtual session must register by 5:00 p.m. Eastern Time, Thursday September 28, 2023.

Alicia Chambers,
NIST Executive Secretariat.

[FR Doc. 2023-19640 Filed 9-11-23; 8:45 am]

BILLING CODE 3510-13-P